DEPARTMENT OF THE INTERIOR

Fish and Wildlife Service

Notice of Intent To Prepare a Comprehensive Conservation Plan and Environmental Assessment for the Long Island National Wildlife Refuge Complex

AGENCY: U.S. Fish and Wildlife Service, Department of the Interior.

ACTION: Notice of intent.

SUMMARY: This notice advises the public that the U.S. Fish and Wildlife Service (Service) intends to prepare a Comprehensive Conservation Plan (CCP) and Environmental Assessment (EA) pursuant to the National Environmental Policy Act and its implementing regulations, for the Long Island National Wildlife Refuge (NWR) Complex refuges located in the State of New York. The Long Island NWR Complex is a diverse group of eight refuges totaling over 6,200 acres, and contains most of the habitat types found on Long Island which are important to migratory birds and other wildlife. These refuges include Amagansett, Conscience Point, Lido Beach, Morton, Oyster Bay, Seatuck, Target Rock, and Wertheim NWRs. The refuges are in Suffolk and Nassau Counties, New York. This notice also advises the public that the Service is withdrawing a previous notice, published on May 30, 2000, stating that an Environmental Impact Statement (EIS) would be developed for the refuge complex. Comments already received under the previous notice will be considered during preparation of the subject CCP/EA.

The Service is furnishing this notice in compliance with the National Wildlife Refuge System Administration Act of 1966, as amended (16 U.S.C. 668dd et seq.): (1) To advise other agencies and the public of our intentions, and (2) to obtain suggestions and information on the scope of issues to include in the environmental documents.

DATES: Please provide any comments on the subject CCP/EA by April 15, 2005. The Service will notify the public of subsequent meetings on development of the proposed CCP/EA via Federal Register notice and other means, including special mailings, newspaper articles, and Web site announcements. Inquire at the address below for future dates of planning activity.

ADDRESSES: Comments and requests for more information may be addressed to Refuge Manager, Long Island National Wildlife Refuge Complex, P.O. Box 21, Shirley, New York 11976, 631-286-0485.

SUPPLEMENTARY INFORMATION: By Federal law, all lands within the National Wildlife Refuge System are to be managed in accordance with an approved CCP. The CCP guides management decisions and identifies refuge goals, long-range objectives, and strategies for achieving refuge purposes. Public input into this planning process is essential. The CCP will provide other agencies and the public with a clear understanding of the desired conditions for the refuges and how the Service will implement management strategies. Public input into this planning process is essential.

The Service began soliciting information from the public in 2000 via open houses, meetings, and written comments. Special mailings, newspaper articles, and Web site announcements helped to inform the public in the general area near each refuge of the time and place of opportunities for input to the CCP.

The refuge complex has recently completed two EAs independent of the CCP process; one EA specifically addressed the issue of deer hunting at Wertheim NWR, and another EA addressed development of a headquarters and visitor center at Wertheim NWR. The Service has determined that, at this time, an EA is a more appropriate document than an EIS to accompany the CCP.

The need to prepare an EIS is a matter of professional judgment requiring consideration of all issues in question. If the EA determines that the CCP will constitute a major Federal action significantly affecting the quality of the human environment, an EIS will then be prepared. The primary purpose of an EIS is to ensure that a full and fair discussion of all significant environmental impacts occurs and to inform decision makers and the public of the reasonable alternatives that would avoid or minimize adverse impacts or enhance the quality of the human environment.

Review of this project will be conducted in accordance with the requirements of the National Environmental Policy Act of 1969, as amended (42 U.S.C. 4321 et seq.), NEPA Regulations (40 CFR 1500-1508), other appropriate Federal laws and regulations, and Service policies and procedures for compliance with those regulations. Concurrent with the CCP process, the Service will conduct a wilderness review and incorporate a summary of the review into the CCP, as well as include compatibility determinations for all applicable refuge uses. We estimate that the Draft CCP/EA will be available in the summer 2005.

Dated: March 3, 2005.
Richard O. Bennett,
Deputy Regional Director, U.S. Fish and Wildlife Service, Hadley, Massachusetts.

[FR Doc. 05-6033 Filed 3-25-05; 8:45 am]

BILLING CODE 4310-55-P